DEPARTMENT OF LABOR

Employment and Training Administration

[TA-W-65,358]

Dauphin Precision Tool; Millersburg, PA; Notice of Termination of Investigation

Pursuant to Section 221 of the Trade Act of 1974, as amended, an investigation was initiated on February 24, 2009 in response to a petition filed by United Steelworkers of America, Subdistrict Office 10, on behalf of workers of Dauphin Precision Tool, Millersburg, Pennsylvania.

The petitioner has requested that the petition be withdrawn. Consequently, the investigation has been terminated.

Signed at Washington, DC this 2nd day of April 2009.
Linda G. Poole,
Certifying Officer, Division of Trade Adjustment Assistance.

[FR Doc. E9-10378 Filed 5-5-09; 8:45 am]

BILLING CODE 4510-FN-P